DEPARTMENT OF HEALTH AND HUMAN SERVICES

National Institutes of Health

Nominations to the National Toxicology Program for the Report on Carcinogens and Office of Health Assessment and Translation; Request for Information

SUMMARY: The National Toxicology Program (NTP) requests information on four nominations. Four substances are being considered for possible review for future editions of the Report on Carcinogens (RoC). Three of these four substances are also being considered for evaluation of non-cancer health outcomes by the Office of Health Assessment and Translation (OHAT).

DATES: Receipt of information: Deadline is October 11, 2016.

ADDRESSES: Information on substances for possible review should be submitted electronically at http://ntp.niehs.nih.gov/go/778417.

FOR FURTHER INFORMATION CONTACT:

RoC Nominations: Dr. Ruth Lunn, Director, Office of RoC; telephone (919) 316-4637; lunn@niehs.nih.gov. OHAT Nominations: Dr. Windy Boyd, OHAT, telephone (919) 541-9810; boydw@niehs.nih.gov. Address for Dr. Lunn and Dr. Boyd: Division of NTP, National Institute of Environmental Health Sciences, 111 T.W. Alexander Drive, P.O. Box 12233, Research Triangle Park, NC 27709.

SUPPLEMENTARY INFORMATION:

Request for Information: NTP requests information on four substances that have been nominated for possible review for future editions of the RoC (see http://ntp.niehs.nih.gov/go/rocnom); three of these four substances are also under consideration for evaluation of non-cancer health outcomes (see http://ntp.niehs.nih.gov/go/763346). The four nominations are:

• Consumption of red meat: cancer and non-cancer health hazard evaluations.

• Consumption of processed meat: cancer and non-cancer health hazard evaluations.

• Consumption of meat cooked at high temperatures: cancer and non-cancer health hazard evaluations.

• Antimony trioxide: cancer hazard evaluation.

Cancer hazard evaluation of a substance for the RoC may seek to list a new substance in the report, reclassify the listing status of a substance already listed, or remove a listed substance.

Specifically, NTP requests information on: (1) Current production, use patterns, and human exposure estimates for antimony trioxide; (2) data on dietary intake estimates of red meat, processed meat, or meat cooked at high temperatures; and for all four nominations (3) recently published, ongoing, or planned studies related to evaluating adverse health outcomes (e.g., cancer, development, reproductive, or immunological disorders); (4) scientific issues important for prioritizing and assessing adverse health outcomes; and (5) names of scientists with expertise or knowledge on any of these substances—please indicate the substance and include any bibliographic citations when available. NTP will use this information in determining which substances to propose for formal health hazard evaluations.

Information on substances for possible review should be submitted electronically at http://ntp.niehs.nih.gov/go/778417 or emailed to Dr. Lunn or Dr. Boyd (see FOR FURTHER INFORMATION CONTACT). Contact information for comments should include the submitter's name, affiliation, sponsoring organization (if any), telephone, and email. Written information received in response to this notice will be posted on the NTP Web site, and the submitter identified by name, affiliation, and/or sponsoring organization. Guidelines for public comments are at http://ntp.niehs.nih.gov/ntp/about_ntp/guidelines_public_comments_508.pdf.

Responses to this request for information are voluntary. This request for information is for planning purposes only and is not a solicitation for applications or an obligation on the part of the U.S. Government to provide support for any ideas identified in response to it. Please note that the U.S. Government will not pay for the preparation of any information submitted or for its use. No proprietary, classified, confidential, or sensitive information should be included in your response.

Background Information on ORoC: On behalf of NTP, ORoC prepares the RoC following an established, four-part process (http://ntp.niehs.nih.gov/go/rocprocess). The RoC is a congressionally mandated, science-based, public health report that identifies agents, substances, mixtures, or exposures (collectively called “substances”) in our environment that pose a cancer hazard for people in the United States. Published biennially, each edition of the RoC is cumulative and consists of substances newly reviewed in addition to those listed in previous editions. Newly reviewed substances with their recommended listing are reviewed and approved by the Secretary of Health and Human Services. The 13th RoC, the latest edition, was published on October 2, 2014 (available at http://ntp.niehs.nih.gov/go/roc13). The 14th RoC is under development.

Background Information on OHAT: On behalf of NTP, OHAT conducts literature-based evaluations to assess the evidence whether environmental chemicals, physical substances, or mixtures (collectively called “substances”) cause adverse non-cancer health outcomes. As part of these evaluations, NTP may also provide opinions on whether these substances might be of concern for causing adverse effects on human health given what is known about toxicity and current human exposure levels. Information about OHAT can be found at http://ntp.niehs.nih.gov/go/ohat.

Dated: September 6, 2016.
John R. Bucher,
Associate Director, National Toxicology Program.

[FR Doc. 2016-21698 Filed 9-8-16; 8:45 am]

BILLING CODE 4140-01-P